DEPARTMENT OF HEALTH AND HUMAN SERVICES

National Institutes of Health

National Heart, Lung, and Blood Institute; Amended Notice of Meeting

Notice is hereby given of a change in the meeting of the Clinical Trials Review Committee, June 30, 2008, 8:30 a.m. to July 1, 2008, 5 p.m., Pier 5 Hotel, 711 Eastern Avenue, Baltimore, MD 21202 which was published in the Federal Register on April 22, 2008, FRE8-8513.

The meeting dates were changed from June 30-July 1, 2008 to June 23-24, 2008. Also, meeting location was changed from Pier 5 Hotel to Sheraton Columbia Hotel. The rest of the information remains the same. The meeting is closed to the public.

Dated: April 28, 2008.
Jennifer Spaeth,
Director, Office of Federal Advisory Committee Policy.

[FR Doc. E8-9759 Filed 5-2-08; 8:45 am]

BILLING CODE 4140-01-M